MILLENNIUM CHALLENGE CORPORATION

[MCC FR 22-19]

Notice of Entering Into a Compact With the Government of Niger

AGENCY: Millennium Challenge Corporation.

ACTION: Notice.

SUMMARY: In accordance with the provisions of the Millennium Challenge Act of 2003, as amended, the Millennium Challenge Corporation (MCC) is publishing a summary of the Millennium Challenge Compact (Compact) between the United States of America, acting through MCC, and the Government of Niger. Representatives of MCC and the Government of Niger executed the Compact on December 14, 2022. The complete text of the Compact has been posted at: https://assets.mcc.gov/content/uploads/niger-concurrent-compact.pdf.

(Authority: 22 U.S.C. 7709(b)(3))

Dated: December 15, 2022.
Thomas G. Hohenthaner,
Acting VP/General Counsel and Corporate Secretary.

Summary of Niger Compact

Overview of MCC Niger Compact

MCC's five-year, $302,000,000 concurrent Compact with the Republic of Niger (Government) aims to further regional economic integration, increased regional trade, or cross-border collaboration with Niger. The Compact intends to reduce poverty through economic growth by addressing important market and institutional constraints along the transport corridor that connects Niamey, Niger and Cotonou, Benin (Corridor), enabling these countries to gain access to larger markets, attract increased private sector investment, and strengthen both intra-regional and global trade ties. The Compact will address these constraints through two projects that seek to achieve this goal by reducing transportation costs along the Corridor. The Government also will contribute approximately $15,000,000 to support the Compact program.

Project Summaries

The Compact is comprised of two projects:

1. Corridor Infrastructure Project:The objective of the Corridor Infrastructure Project is to reduce transportation costs along the Corridor with transportation costs including vehicle operating costs, time-related costs, and injuries and deaths. The Project includes two activities:

• Road Rehabilitation Activity: This activity aims to rehabilitate and upgrade approximately 127 km of the Route Nationale 1 road between the cities of Niamey and Dosso crossing the regions of Tillabéri and Dosso.

• Road Maintenance Activity: This activity aims to implement policy and institutional reforms in order to assist the Agence de Maîtrise d'Ouvrage Délégué de l'Entretien Routier to better undertake periodic road maintenance by improving the quality of the road maintenance work, optimizing the budget for such maintenance work, reducing the road maintenance funding gaps, and improving the coordination of planning and selection of roads for periodic maintenance as well as the road maintenance framework maintained by the Ministry of Equipment's Direction de Gestion des Réseaux Routiers.

2. Efficient Corridor Operations Project: The objective of the Efficient Corridor Operations Project is to reduce transportation costs along the Corridor including vehicle operating costs, time-related costs, injuries and deaths as well as costs related to unreliable processes and market inefficiencies. The Project includes two activities:

• Freight Sector Operations Improvement Activity: This activity aims to promote meaningful reforms intended to impact and improve the efficiency of truck freight sector operations by addressing axle load management, regulatory review and capacity building, freight vehicle regulation, and the organization and establishment of a corridor authority.

• Customs Border Operations Improvement Activity: This activity aims to support improvements to the Nigerien custom border operations at the Gaya-Malanville crossing between Niger and Benin, in order to improve the fluidity of corridor operations.

Niger Compact Budget

The table below presents the Compact budget and sets forth both the MCC funding allocation by Compact components and the Government's expected $15,000,000 contribution toward the objectives of the Compact.

Niger Compact Total Budget
Component | MCC funding
1. Corridor Infrastructure Project | $181,330,215
1.1 Road Rehabilitation Activity | 157,012,348
1.2 Road Maintenance Activity | 24,317,867
2. Efficient Corridor Operations Project | 70,349,500
2.1 Freight Sector Operations Improvement Activity | 21,030,000
2.2 Customs Border Operations Improvement Activity | 49,319,500
3. Monitoring and Evaluation | 1,500,000
4. Program Management and Administration | 48,820,285
Total MCC Funding | 302,000,000
Total compact funding | Amount
Total MCC Funding | 302,000,000
Government of Niger Contribution | 15,000,000
Total Compact | 317,000,000

[FR Doc. 2022-27679 Filed 12-20-22; 8:45 am]

BILLING CODE 9211-03-P